DEPARTMENT OF ENERGY

Federal Energy Regulatory Commission

Combined Notice of Filings #2

Take notice that the Commission received the following electric corporate filings:

Docket Numbers: EC16-63-000.

Applicants: High Lonesome Mesa, LLC.

Description: Amendment to January 27, 2016 Application for authorization for disposition of jurisdictional facilities under Section 203 of the FPA of High Lonesome Mesa, LLC.

Filed Date: 2/12/16.

Accession Number: 20160212-5273.

Comments Due: 5 p.m. ET 2/22/16.

Take notice that the Commission received the following electric rate filings:

Docket Numbers: ER16-945-000.

Applicants: Midcontinent Independent System Operator, Inc.

Description: Notice of Termination by Midcontinent Independent System Operator, Inc. of Service Agreements Nos. 568 and 569 among Northern Indiana Public Service Company and the Indiana Municipal Power Agency under ER16-945.

Filed Date: 2/16/16.

Accession Number: 20160216-5254.

Comments Due: 5 p.m. ET 3/8/16.

Docket Numbers: ER16-946-000.

Applicants: ISO New England Inc.

Description: § 205(d) Rate Filing: Rev. to Schedules 22, 23 & 25 of the OATT Relating to Interconnection Process to be effective 4/17/2016.

Filed Date: 2/16/16.

Accession Number: 20160216-5279.

Comments Due: 5 p.m. ET 3/8/16.

Docket Numbers: ER16-947-000.

Applicants: Big Sandy Peaker Plant, LLC, Wolf Hills Energy, LLC, Middle River Power II, LLC.

Description: Joint Request of Big Sandy Peaker Plant, LLC, Wolf Hills Energy, LLC and Middle River Power II LLC for Waiver and Request for Expedited Consideration.

Filed Date: 2/16/16.

Accession Number: 20160216-5278.

Comments Due: 5 p.m. ET 3/8/16.

Docket Numbers: ER16-948-000.

Applicants: Midcontinent Independent System Operator, Inc., Otter Tail Power Company.

Description: Compliance filing: 2016-02-16_SA 2897 OTP-GRE FSA Compliance to be effective 8/26/2015.

Filed Date: 2/16/16.

Accession Number: 20160216-5292.

Comments Due: 5 p.m. ET 3/8/16.

Docket Numbers: ER16-949-000.

Applicants: Escalante Solar I, LLC.

Description: § 205(d) Rate Filing: Tenant In Common and Shared Facilities Agreement to be effective 4/2/2016.

Filed Date: 2/16/16.

Accession Number: 20160216-5301.

Comments Due: 5 p.m. ET 3/8/16.

Docket Numbers: ER16-950-000.

Applicants: Escalante Solar II, LLC.

Description: § 205(d) Rate Filing: Tenant in Common and Shared Facilities Agreement to be effective 4/2/2016.

Filed Date: 2/16/16.

Accession Number: 20160216-5305.

Comments Due: 5 p.m. ET 3/8/16.

Docket Numbers: ER16-951-000.

Applicants: Escalante Solar III, LLC.

Description: § 205(d) Rate Filing: Tenant In Common and Shared Facilities Agreement to be effective 4/2/2016.

Filed Date: 2/16/16.

Accession Number: 20160216-5306.

Comments Due: 5 p.m. ET 3/8/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 16, 2016.
Nathaniel J. Davis, Sr.,
Deputy Secretary.

[FR Doc. 2016-03617 Filed 2-22-16; 8:45 am]

BILLING CODE 6717-01-P